FARM CREDIT ADMINISTRATION

Privacy Act of 1974; System of Records

AGENCY: Farm Credit Administration.

ACTION: Notice of a Modified System of Records.

SUMMARY: Pursuant to the provisions of the Privacy Act of 1974, as amended, notice is hereby given that the Farm Credit Administration (FCA or Agency) is amending an existing system of records, FCA-14—Employee Travel Records—FCA.

DATES: You may send written comments on or before September 2, 2020. The FCA filed an amended System Report with Congress and the Office of Management and Budget on June 8, 2020. This notice will become effective without further publication on September 14, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to. . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to. . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records.

The Employee Travel Records—FCA system is used to ensure proper payment of travel claims. The Agency is updating the notice to include payment of relocation costs and fees as a primary purpose of the system and is updating the categories of records maintained in the system to reflect that modified purpose. Additionally, the FCA is making administrative updates as well as non-substantive changes to conform to the system of records notice (SORN) template requirements prescribed in the Office of Management and Budget (OMB) Circular No. A-108. The substantive changes and modifications to the currently published version of FCA-14—Employee Travel Records—FCA include:

1. Updating the name of the system to reflect the expanded purpose—FCA-14—Employee Travel and Relocation Records—FCA.

2. Identifying the records in the system as unclassified.

3. Updating the system location to reflect the system's current location.

4. Updating the system managers to reflect the system's current owner.

5. Expanding the purpose of the system to include processing payment(s) of relocation claims for FCA employees.

6. Expanding and clarifying the categories of records to ensure they are consistent with the purposes for which the records are collected.

7. Expanding and clarifying the categories of individuals to ensure they are consistent with the purposes for which the records are collected.

8. Expanding and clarifying how records may be stored and retrieved.

9. Revising the retention and disposal section to reflect the relevant records schedule.

10. Revising the safeguards section to reflect updated cybersecurity guidance and practices.

Additionally, non-substantive changes have been made to the notice to align with the latest guidance from OMB.

The amended system of records is: FCA-14—Employee Travel and Relocation Records—FCA. As required by 5 U.S.C. 552a(r) of the Privacy Act, as amended, the FCA has sent notice of this proposed system of records to the Office of Management and Budget, the Committee on Oversight and Government Reform of the House of Representatives, and the Committee on Homeland Security and Governmental Affairs of the Senate. The notice is published in its entirety below.

System Name and Number:

FCA-14—Employee Travel and Relocation Records—FCA.

Security Classification:

Unclassified.

System Location:

Office of the Chief Financial Officer, Farm Credit Administration, 1501 Farm Credit Drive, McLean, VA 22102-5090.

System Manager:

Chief Financial Officer and Director, Office of the Chief Financial Officer, Farm Credit Administration, 1501 Farm Credit Drive, McLean, VA 22102-5090.

Authority for Maintenance of the System:

12 U.S.C. 2243, 2252.

Purposes of the System:

Information in this system of records is used by the FCA to ensure the proper payment of travel and relocation claims.

Categories of Individuals Covered by the System:

FCA employees who travel at the expense of FCA or in support of official FCA business and individuals who relocate at FCA's expense.

Categories of Records in the System:

This system contains information including, but not limited to: (a) Name, home and business address, telephone number, email address, and Social Security number of FCA employees traveling on FCA business or being relocated at FCA's expense; (b) name and relationship information of spouses, children, and other family members for individuals being relocated at FCA's expense; (c) employment information, such as grade, retirement plan, title (current and new), duty station address, salary information, and government issued credit card number (if applicable) of individuals being relocated at FCA's expense; (d) buyer seller and similar residence transaction information of the individual being relocated at FCA's expense, including property addresses, purchase/sale prices, information about the financing company/lender associated with a property, loan account number(s) and other loan information (principle, payments, down payment, etc.), insurance company associated with the property, and other documents provided by the individual as receipts for reimbursement; (e) travel information including authorization number, destination, itinerary, mode and purpose of travel, as well as travel and relocation authorizations, travel vouchers, receipts, dates, expenses, amounts advanced, amounts claimed, amounts reimbursed, receipts, and other records not otherwise covered as part of the government-wide system of records notices published by the General Services Administration (GSA/GOVT-3 and GSA/GOVT-4). This system complements those systems, and in some cases, the notice incorporates by reference but does not repeat all the information contained in those systems.

Record Source Categories:

FCA employee that is the subject of the record and service providers.

Routine Uses of Records Maintained in the System, Including Categories of Users and Purposes of Such Uses:

See the “General Statement of Routine Uses” (64 FR 8175). The information collected in the system will be used in a manner compatible with the purposes for which the information has been collected.

Disclosure to consumer reporting agencies: None

Policies and Practices for Storage of Records:

Records are maintained in hard copy and electronic form, including file folders on a computerized database.

Policies and Practices for Retrieval of Records:

Records are retrieved by name of individual traveling or being relocated at FCA's expense.

Policies and Procedures for Retention and Disposal of Records:

Records are retained in accordance with the FCA Comprehensive Records Schedule and the National Archives and Records Administration's General Records Schedule 1.1: Financial Management and Reporting Records.

Administrative, Technical, and Physical Safeguards:

FCA implements multiple layers of security to ensure access to records is limited to those with a need-to-know in support of their official duties. Records are physically safeguarded in a secured environment using locked file rooms, file cabinets, or locked offices and other physical safeguards. Computerized records are safeguarded through use of user roles, passwords, firewalls, encryption, and other information technology security measures.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

None.

History:

Federal Register Vol. 64, No. 100/Tuesday, May 25, 1999 page 21875, Vol. 70, No. 183/Thursday, September 22, 2005, page 55621.

Dated: July 28, 2020.
Dale Aultman,
Secretary,Farm Credit Administration Board.

[FR Doc. 2020-16702 Filed 7-31-20; 8:45 am]

BILLING CODE 6705-01-P